DEPARTMENT OF ENERGY

Federal Energy Regulatory Commission

Combined Notice of Filings #1

Take notice that the Commission received the following electric rate filings:

Docket Numbers: ER11-3216-002; ER11-3218-002; ER14-1690-002.

Applicants: Monterey SW LLC, Monterey MW, LLC, MA, LLC.

Description: Notice of Non-Material Change in Status of Monterey MA, LLC, et al.

Filed Date: 5/29/24.

Accession Number: 20240529-5130.

Comment Date: 5 p.m. ET 6/20/24.

Docket Numbers: ER14-1818-027.

Applicants: Boston Energy Trading and Marketing LLC.

Description: Updated Market Power Analysis for Central Region of Boston Energy Trading and Marketing LLC.

Filed Date: 5/29/24.

Accession Number: 20240529-5131.

Comment Date: 5 p.m. ET 6/20/24.

Docket Numbers: ER24-839-001.

Applicants: EF Oxnard LLC.

Description: Compliance filing: Amendment to Notice of Non-Material Change in Status and MBR Tariff Revisions to be effective 3/11/2024.

Filed Date: 5/29/24.

Accession Number: 20240529-5084.

Comment Date: 5 p.m. ET 6/20/24.

Docket Numbers: ER24-1248-002.

Applicants: Northern Indiana Public Service Company LLC.

Description: Tariff Amendment: NIPSCO NEET Construction Agreement Supplement to be effective 6/13/2024.

Filed Date: 5/29/24.

Accession Number: 20240529-5068.

Comment Date: 5 p.m. ET 6/10/24.

Docket Numbers: ER24-1850-001.

Applicants: Atrisco BESS SF LLC.

Description: Tariff Amendment: Amendment to Lease Agreement in Docket ER24-1850 to be effective 5/1/2024.

Filed Date: 5/28/24.

Accession Number: 20240528-5325.

Comment Date: 5 p.m. ET 6/7/24.

Docket Numbers: ER24-2084-002.

Applicants: American Electric Power Service Corporation, PJM Interconnection, L.L.C.

Description: Tariff Amendment: American Electric Power Service Corporation submits tariff filing per 35.17(b): Second Amendment to CIAC, SA No. 6679 to be effective 4/29/2024.

Filed Date: 5/29/24.

Accession Number: 20240529-5074.

Comment Date: 5 p.m. ET 6/20/24.

Docket Numbers: ER24-2116-000.

Applicants: Southwest Power Pool, Inc.

Description: 205(d) Rate Filing: 4132R1 Choctaw Fields Solar Project Surplus Inter GIA to be effective 7/29/2024.

Filed Date: 5/29/24.

Accession Number: 20240529-5003.

Comment Date: 5 p.m. ET 6/20/24.

Docket Numbers: ER24-2117-000.

Applicants: Louisiana Generating LLC.

Description: Request to recover costs associated with acting as a local balancing authority of Louisiana Generating LLC.

Filed Date: 5/28/24.

Accession Number: 20240528-5344.

Comment Date: 5 p.m. ET 6/18/24.

Docket Numbers: ER24-2119-000.

Applicants: Southwest Power Pool, Inc.

Description: 205(d) Rate Filing: 1518R27 Arkansas Electric Cooperative Corp NITSA NOA to be effective 8/1/2024.

Filed Date: 5/29/24.

Accession Number: 20240529-5036.

Comment Date: 5 p.m. ET 6/20/24.

Docket Numbers: ER24-2120-000.

Applicants: Southwest Power Pool, Inc.

Description: 205(d) Rate Filing: 1166R43 Oklahoma Municipal Power Authority NITSA and NOA to be effective 8/1/2024.

Filed Date: 5/29/24.

Accession Number: 20240529-5047.

Comment Date: 5 p.m. ET 6/20/24.

Docket Numbers: ER24-2121-000.

Applicants: Midcontinent Independent System Operator, Inc.

Description: 205(d) Rate Filing: 2024-05-29_SA 3074 Termination of OTP-MDU-NSP MPFCA Sub 1st Rev (J436 J437) to be effective 5/30/2024.

Filed Date: 5/29/24.

Accession Number: 20240529-5049.

Comment Date: 5 p.m. ET 6/20/24.

Docket Numbers: ER24-2122-000.

Applicants: Arizona Public Service Company.

Description: 205(d) Rate Filing: Service Agreement No. 420, Serrano Solar Surplus Interconnection to be effective 4/29/2024.

Filed Date: 5/29/24.

Accession Number: 20240529-5078.

Comment Date: 5 p.m. ET 6/20/24.

Docket Numbers: ER24-2123-000.

Applicants: PJM Interconnection, L.L.C.

Description: 205(d) Rate Filing: Original NSA, Service Agreement No. 7288; AC2-195 to be effective 7/29/2024.

Filed Date: 5/29/24.

Accession Number: 20240529-5102.

Comment Date: 5 p.m. ET 6/20/24.

Docket Numbers: ER24-2124-000.

Applicants: AEP Texas Inc.

Description: 205(d) Rate Filing: AEPTX-Zenobe City Breeze BESS Generation Interconnection Agreement to be effective 5/29/2024.

Filed Date: 5/29/24.

Accession Number: 20240529-5107.

Comment Date: 5 p.m. ET 6/20/24.

Docket Numbers: ER24-2126-000.

Applicants: Alabama Power Company, Georgia Power Company, Mississippi Power Company.

Description: Tariff Amendment: Alabama Power Company submits tariff filing per 35.15: Neoen U.S. (Lydia Solar) LGIA Termination Filing to be effective 5/29/2024.

Filed Date: 5/29/24.

Accession Number: 20240529-5108.

Comment Date: 5 p.m. ET 6/20/24.

Docket Numbers: ER24-2127-000.

Applicants: Innovative Solar 31, LLC.

Description: Compliance filing: Revisions to MBR Tariffs to Update Category Seller Status in SE Region to be effective 5/30/2024.

Filed Date: 5/29/24.

Accession Number: 20240529-5147.

Comment Date: 5 p.m. ET 6/20/24.

Docket Numbers: ER24-2128-000.

Applicants: Innovative Solar 47, LLC.

Description: Compliance filing: Revisions to MBR Tariffs to Update Category Seller Status in SE Region to be effective 5/30/2024.

Filed Date: 5/29/24.

Accession Number: 20240529-5152.

Comment Date: 5 p.m. ET 6/20/24.

Docket Numbers: ER24-2129-000.

Applicants: PJM Interconnection, L.L.C.

Description: 205(d) Rate Filing: Original NSA, Service Agreement No. 7287; AF2-356 to be effective 7/29/2024.

Filed Date: 5/29/24.

Accession Number: 20240529-5153.

Comment Date: 5 p.m. ET 6/20/24.

Docket Numbers: ER24-2130-000.

Applicants: MN8 Energy Marketing LLC.

Description: Compliance filing: Revisions to MBR Tariffs to Update Category Seller Status in SE Region to be effective 5/30/2024.

Filed Date: 5/29/24.

Accession Number: 20240529-5154.

Comment Date: 5 p.m. ET 6/20/24.

Docket Numbers: ER24-2131-000.

Applicants: PJM Interconnection, L.L.C.

Description: 205(d) Rate Filing: Amendment to ISA, SA No. 5692; Queue No. AF1-198 (amend) to be effective 7/29/2024.

Filed Date: 5/29/24.

Accession Number: 20240529-5159.

Comment Date: 5 p.m. ET 6/20/24.

Docket Numbers: ER24-2132-000.

Applicants: Forked River Power LLC.

Description: Baseline eTariff Filing: Reactive Power Rate Schedule to be effective 7/1/2024.

Filed Date: 5/29/24.

Accession Number: 20240529-5187.

Comment Date: 5 p.m. ET 6/20/24.

Docket Numbers: ER24-2133-000.

Applicants: New York Independent System Operator, Inc.

Description: 205(d) Rate Filing: NYISO 205: Proposal to implement HSRs, expand CSR options, and enhance FSRs to be effective 4/16/2024.

Filed Date: 5/29/24.

Accession Number: 20240529-5213.

Comment Date: 5 p.m. ET 6/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 29, 2024.
Debbie-Anne A. Reese,
Acting Secretary.

[FR Doc. 2024-12180 Filed 6-3-24; 8:45 am]

BILLING CODE 6717-01-P